ENVIRONMENTAL PROTECTION AGENCY

[FRL-10021-49-OP]

White House Environmental Justice Advisory Council; Notification of Virtual Public Meeting

AGENCY: Environmental Protection Agency (EPA).

ACTION: Notification of public meeting.

SUMMARY: Pursuant to the Federal Advisory Committee Act (FACA), the U.S. Environmental Protection Agency (EPA) hereby provides notice that the White House Environmental Justice Advisory Council (WHEJAC) will meet on the date and time described below. Due to unforeseen administrative circumstances, EPA is announcing this meeting with less than 15 calendar days public notice. The meeting is open to the public. Members of the public are encouraged to provide comments relevant to the specific issues being considered by the WHEJAC. For additional information about registering to attend the meeting or to provide public comment, please see “Registration” under SUPPLEMENTARY INFORMATION. Due to the limit of 1000 participants, attendance will be on a first-come, first served basis. Pre-registration is required.

DATES: The WHEJAC will convene a public virtual meeting on Tuesday, March 30, 2021, from approximately 2:00 p.m.—6:00 p.m., Eastern Daylight Time. One public comment period relevant to the specific issues being considered by the WHEJAC (see SUPPLEMENTARY INFORMATION) is scheduled for Tuesday, March 30, 2021, at approximately 5:00 p.m., Eastern Daylight Time. Members of the public who wish to participate during the public comment period must pre-register by 11:59 p.m., Eastern Daylight Time on Sunday, March 28, 2021.

FOR FURTHER INFORMATION CONTACT: Karen L. Martin, WHEJAC Designated Federal Officer, U.S. EPA; email: whejac@epa.gov; telephone: (202) 564-0203. Additional information about the WHEJAC is available at https://www.epa.gov/environmentaljustice/white-house-environmental-justice-advisory-council.

SUPPLEMENTARY INFORMATION: The meeting discussion will focus on several topics including, but not limited to the implementation of Executive Order 14008, how to increase the Federal Government's efforts to address current and historic environmental injustices and the recommendations for updating Executive Order 12898.

The Charter of the WHEJAC states that the advisory committee will provide independent advice and recommendations to the Chair of the Council on Environmental Quality (CEQ) and to the White House Interagency Council on Environmental Justice (Interagency Council) on how to increase the Federal Government's efforts to address current and historic environmental injustice, including recommendations for updating Executive Order 12898. The WHEJAC will provide advice and recommendations about broad cross-cutting issues, related but not limited to, issues of environmental justice and pollution reduction, energy, climate change mitigation and resiliency, environmental health, and racial inequity. The WHEJAC's efforts will include a broad range of strategic, scientific, technological, regulatory, community engagement, and economic issues related to environmental justice.

Registration: Individual registration is required for the virtual public meeting. Information on how to register is located at https://www.epa.gov/environmentaljustice/white-house-environmental-justice-advisory-council. Registration for the meeting and to register to speak during the public comment period will close 11:59 p.m., Eastern Daylight Time on Sunday, March 28, 2021. When registering, please provide your name, organization, city and state, and email address for follow up. Please also indicate whether you would like to provide public comment during the meeting, and whether you are submitting written comments at the time of registration.

A. Public Comment

Every effort will be made to hear from as many registered public commenters during the time specified on the agenda. Individuals or groups making remarks during the public comment period will be limited to three (3) minutes. To accommodate the number of people who want to address the WHEJAC during the time allotted on the agenda, only one representative of a particular community, organization, or group will be allowed to speak. Submission of written comments for the record are strongly encouraged. The suggested format for individuals providing public comments is as follows: name of speaker; name of organization/community; city and state; and email address; brief description of the concern, and what you want the WHEJAC to advise CEQ to do. Written comments received by registration deadline, will be included in the materials distributed to the WHEJAC prior to the meeting. Written comments received after that time will be provided to the WHEJAC as time allows. All written comments should be sent to Karen L. Martin, EPA, via email at whejac@epa.gov.

B. Information About Services for Individuals With Disabilities or Requiring English Language Translation Assistance

For information about access or services for individuals requiring assistance, please contact Karen L. Martin, via email at whejac@epa.gov. To request special accommodations for a disability or other assistance, please submit your request to the email listed in the FOR FURTHER INFORMATION CONTACT section.

Matthew Tejada,
Director for the Office of Environmental Justice.

[FR Doc. 2021-05768 Filed 3-18-21; 8:45 am]

BILLING CODE 6560-50-P